DEPARTMENT OF ENERGY

Federal Energy Regulatory Commission

Sunshine Act Meeting Notice

October 15, 2003.

The following notice of meeting is published pursuant to section 3(a) of the Government in the Sunshine Act (Pub. L. 94-409), 5 U.S.C 552B:

Agency Holding Meeting: Federal Energy Regulatory Commission.

Date and Time: October 22, 2003, 10 a.m.

Place: Room 2C, 888 First Street, NE., Washington, DC 20426.

Status: Open.

Matters to be Considered: Agenda.

*Note— Items listed on the agenda may be deleted without further notice.

Contact Person for More Information: Magalie R. Salas, Secretary, Telephone: (202) 502-8400. For a recording listing items stricken from or added to the meeting, call (202) 502-8627.

This is a list of matters to be considered by the commission. It does not include a listing of all papers relevant to the items on the agenda; however, all public documents may be examined in the Reference and Information Center.

842nd Meeting, October 22, 2003; Regular Meeting, 10 a.m.

Administrative Agenda

A-1.

Docket# AD02-1, 000, Agency Administrative Matters

A-2.

Docket# AD02-7, 000, Customer Matters, Reliability, Security and Market Operations

A-3.

Docket# PL03-3, 000, Price Discovery In Natural Gas and Electric Market

Markets, Tariffs and Rates—Electric

E-1.

Docket# ER03-323, 001, Midwest Independent Transmission System Operator, Inc.

Other#S ER03-323, 004, Midwest Independent Transmission System Operator, Inc.

E-2.

Docket# ER03-1118, 000, Midwest Independent Transmission System Operator, Inc.

E-3.

Docket# ER02-1656, 015, California Independent System Operator Corporation

Other#S EL01-68, 028, Investigation of Wholesale Rates of Public Utility Sellers of Energy and Ancillary Services in the Western Systems Coordinating Council

E-4.

Docket# RT01-2, 009, PJM Interconnection L.L.C.

Other#S RT01-2, 010, PJM Interconnection L.L.C.: Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company, And UGI Utilities Inc.

ER03-738, 001, Allegheny Power System Operating Companies: Monongahela Power Company, Potomac Edison Company and West Penn Power Company, all d/b/a Allegheny Power Atlantic City Electric Company, Delmarva Power & Light Company, Baltimore Gas and Electric Company, Jersey Central Power & Light Company, Metropolitan Edison Company, Pennsylvania Electric Company, PECO Energy Company, PPL Electric Utilities Corporation, Potomac Electric Power Company, Public Service Electric and Gas Company, Rockland Electric Company and UGI Utilities, Inc.

E-5.

Docket# ER03-1247, 000, Northeast Utilities Service Company

E-6.

Docket# ER03-1243, 000, Southern California Edison Company

E-7. Omitted

E-8.

Docket# ER03-1274, 000, Boston Edison Company

E-9.

Docket# ER03-1271, 000, Aquila, Inc.

E-10.

Docket# ER03-1307, 000, Central Maine Power Company

E-11.

Docket# EC03-122, 000, Sithe Energies, Inc., Apollo Energy, LLC, Exelon (Fossil) Holdings, Inc., Exelon Power Holdings, LP, Exelon SHC, Inc., ExRes SHC, Inc., Marubeni MS Power, Inc., Marubeni American Corporation, National Energy Development Inc., and RCSE, LLC

E-12. Omitted

E-13.

Docket# EC03-131, 000, Oklahoma Gas & Electric Company and NRG McClain LLC

E-14.

Docket# ER03-1046, 000, California Independent System Operator Corporation

E-15. Omitted

E-16.

Docket# ER02-2330, 010, New England Power Pool

Other#S ER02-2330, 011, New England Power Pool

ER02-2330, 012, New England Power Pool

ER02-2330, 014, New England Power Pool

E-17.

Docket# ER02-2480, 002, Duke Energy Corporation

Other#S EL02-118, 000, GenPower Anderson, LLC, FPL Energy Anderson, LLC, and Mountain Creek 2001 Trust v. Duke Energy Corporation and Duke Electric Transmission

E-18.

Docket# ER03-323, 002, Midwest Independent Transmission System Operator, Inc.

Other#S ER03-323, 003, Midwest Independent Transmission System Operator, Inc.

E-19. Omitted

E-20.

Docket# EF02-4011, 000, United States Department of Energy—Southwestern Power Administration (Integrated System)

E-21.

Omitted

E-22.

Docket# ER03-175, 003, Termoelectrica U.S., LLC

E-23.

Omitted

E-24.

Docket# AC03-20, 001, American Electric Power Service Corporation

E-25.

Omitted

E-26.

Docket# ER03-583, 003, Entergy Services, Inc. and EWO Marketing, LP

Other#s ER03-681, 002, Entergy Services, Inc. and Entergy Power, Inc. ER03-682, 003, Entergy Services, Inc. and Entergy Power, Inc. ER03-744, 002, Entergy Services, Inc. and Entergy Louisiana, Inc.

E-27.

Omitted

E-28.

Docket# EL99-44, 006, Arizona Public Service Company v. Idaho Power Company

Other#s EL99-44, 007, Arizona Public Service Company v. Idaho Power Company

E-29.

Docket# ER03-563, 020, Connecticut Jet Power LLC

E-30.

Omitted

E-31.

Docket# ER03-647, 001, New York Independent System Operator, Inc.

Other#s ER03-647, 002, New York Independent System Operator, Inc. ER03-1296, 000, New York Independent System Operator, Inc.

E-32.

Docket# RM00-7, 010, Revision of Annual Charges Assessed to Public Utilities (PJM Interconnection, L.L.C.)

E-33.

Omitted

E-34.

Docket# EL02-105, 002, UBS AG

Other#s EC02-91, 002, UBS AG EL02-130, 002, Bank of America, N.A. EC02-120, 002, Bank of America, N.A.

E-35.

Docket# EL02-74, 002, Colton Power L.P. and the City of Colton, California v. Southern California Edison Company

E-36.

Docket# ER03-624, 001, Calpine Construction Finance Company, L.P.

Other#s ER03-624, 002, Calpine Construction Finance Company, L.P. ER03-1305, 000, Calpine Energy Services, L.P.

E-37.

Docket# EG03-96, 000, Texas Genco, LP

E-38.

Docket# NJ02-3, 000, United States Department of Energy—Bonneville Power Administration

E-39.

Docket# EL03-211, 000, Calpine Newark, LLC

Other#s QF86-891, 005, Calpine Newark, LLC

E-40.

Docket# EL03-206, 000, Santa Rosa Energy LLC

Other#s QF97-138, 003, Santa Rosa Energy LLC

E-41.

Docket# EL03-223, 000, California Power Exchange Corporation

E-42.

Docket# EL03-216, 000, Northeast Utilities Service Company and Select Energy, Inc. v. ISO New England Inc. and New England Power Pool

E-43.

Omitted

E-44.

Docket# EL98-6, 001, Old Dominion Electric Cooperative v. Public Service Electric and Gas Company

E-45.

Docket# ER01-3001, 006, New York Independent System Operator, Inc.

E-46.

Docket# ER03-727, 001, Midwest Independent Transmission System Operator, Inc.

E-47.

Docket# ER03-59, 001, Entergy Services, Inc.

Other#s ER03-59, 002, Entergy Services, Inc. ER03-1273, 000, Entergy Services, Inc.

E-48.

Docket# ER01-2658, 000, American Electric Power Service Corp.

Other#s EL00-79, 000, Mid-Tex G&T Electric Cooperative, Inc., et al. v. West Texas Utilities Company EL01-113, 000, Mid-Tex G&T Electric Cooperative, Inc., et al. v. West Texas Utilities Company EC01-130, 000, American Electric Power Service Corp. ER01-2658, 001, American Electric Power Service Corp. ER01-2668, 000, American Electric Power Company, Inc. ER01-2977, 000, American Electric Power Service Corp. ER01-2977, 001, American Electric Power Service Corp. ER01-2980, 000, American Electric Power Service Corp. ER01-2980, 001, American Electric Power Service Corp. EL02-24, 000, Mid-Tex G&T Electric Cooperative, Inc., et al. v. West Texas Utilities Company ER02-371, 000, American Electric Power Service Corp. ER02-371, 001, American Electric Power Service Corp. ER02-371, 002, American Electric Power Service Corp. ER02-602, 000, American Electric Power Service Corp. ER02-602, 001, American Electric Power Service Corp. ER02-1216, 000, American Electric Power Service Corp. ER02-1410, 000, West Texas Utilities Company

E-49.

Docket# ER02-2119, 000, Southern California Edison Company

E-50.

Docket# EL03-207, 001, Outback Power Marketing Inc., SESCO Enterprises L.L.C., and Black Oak Energy, L.L.C. v. PJM Interconnection, L.L.C.

Other# EL03-207, 002, Outback Power Marketing Inc., SESCO Enterprises L.L.C., and Black Oak Energy, L.L.C. v. PJM Interconnection, L.L.C.

E-51.

Omitted

E-52.

Docket# ER03-1276, 000, FirstEnergy Service Company

E-53.

Docket# EL02-113, 002, El Paso Electric Company

E-54.

Docket# ER03-31, 000, United Illuminating Company

Other#s ER03-31, 001, United Illuminating Company

E-55.

Omitted

E-56.

Docket# ER03-1311, 000, Chesapeake Transmission, LLC

Miscellaneous Agenda

M-1.

Docket# RM02-14, 000, Regulation of Cash Management Practices

Other#s RM02-14, 001, Regulation of Cash Management Practices

Markets, Tariffs and Rates—Gas

G-1.

Omitted

G-2.

Docket# RP03-589, 000, Iroquois Gas Transmission System, L.P.

G-3.

Omitted

G-4.

Omitted

G-5.

Omitted

G-6.

Omitted

G-7.

Docket# RP03-588, 000, Texas Gas Transmission, LLC

G-8.

Docket# RP96-320, 061, Gulf South Pipeline Company, LP.

G-9.

Omitted

G-10.

Docket# RP03-195, 001, Dominion Transmission, Inc.

G-11.

Docket# RP03-409, 000, Gulfstream Natural Gas System, L.L.C.

G-12.

Docket# RP01-411, 001, Kern River Gas Transmission Company

G-13.

Docket# RP00-329, 004, Great Lakes Gas Transmission Limited Partnership

G-14.

Docket# RP00-327, 005, Columbia Gas Transmission Corporation

Other#s RP00-604, 005, Columbia Gas Transmission Corporation

G-15.

Docket# RP02-551, 001, Dominion Transmission, Inc.

G-16.

Omitted

G-17.

Docket# RP00-336, 009, El Paso Natural Gas Company

Other#s RP00-336, 008, El Paso Natural Gas Company

G-18.

Omitted

G-19.

Docket# RP99-301, 079, ANR Pipeline Company

Other#s GT01-25, 005, ANR Pipeline Company

G-20.

Docket# GT02-35, 006, Tennessee Gas Pipeline Company

Other#s GT02-35, 005, Tennessee Gas Pipeline Company

G-21.

Docket# RP03-544, 002, Texas Gas Transmission, LLC

G-22.

Docket# RP98-40, 033, Panhandle Eastern Pipe Line Company

Other#s SA99-1, 002, Burlington Resources Oil & Gas Company, LP

G-23.

Docket# RP03-551, 000, Wisconsin Gas Company v. Viking Gas Transmission Company

G-24.

Docket# OR03-5, 000, Chevron Products Company v. SFFP, L.P.

G-25.

Docket# RP03-612, 000, Questar Southern Trails Pipeline Company

Energy Projects—Hydro

H-1.

Docket# P-2000, 036, New York Power Authority

H-2.

Docket# P-2145, 054, Public Utility District No. 1 of Chelan County, Washington

Other#s P-943, 082, Public Utility District No. 1 of Chelan County, Washington

H-3.

Docket# P-2687, 024, Pacific Gas and Electric Company

H-4.

Docket# P-12018, 001, San Carlos Irrigation and Drainage District

H-5.

Docket# P-10455, 026, JDJ Energy Company

H-6.

Docket# P-6939, 107, City of Jackson, Ohio and Certain Ohio Municipalities

H-7.

Docket# P-2436, 185, Consumers Energy Company

Other#s P-2447, 153, Consumers Energy Company P-2448, 158, Consumers Energy Company P-2449, 137, Consumers Energy Company P-2450, 133, Consumers Energy Company P-2451, 136, Consumers Energy Company P-2452, 144, Consumers Energy Company P-2453, 163, Consumers Energy Company P-2468, 140, Consumers Energy Company P-2580, 183, Consumers Energy Company P-2599, 151, Consumers Energy Company

H-8.

Docket# P-1494, 232, Grand River Dam Authority

Energy Projects—Certificates

C-1.

Docket# CP03-301, 000, Colorado Interstate Gas Company

Other#s CP03-302, 000, Cheyenne Plains Gas Pipeline Company CP03-303, 000, Cheyenne Plains Gas Pipeline Company CP03-304, 000, Cheyenne Plains Gas Pipeline Company

C-2.

Docket# CP03-296, 000, NGO Transmission, Inc.

Other#s CP03-298, 000, NGO Transmission, Inc.

C-3.

Docket# CP02-60, 003, CMS Trunkline LNG Company, LLC

C-4.

Omitted

C-5.

Docket# CP02-233, 001, Equitrans, L.P. and Carnegie Interstate Pipeline Company

C-6.

Docket# CP03-11, 001, Jupiter Energy Corporation

C-7.

Docket# CP01-415, 010, East Tennessee Natural Gas Company

Other#s CP01-415, 011, East Tennessee Natural Gas Company CP01-415, 012, East Tennessee Natural Gas Company CP01-415, 013, East Tennessee Natural Gas Company CP01-415, 015, East Tennessee Natural Gas Company

Magalie R. Salas,
Secretary.

[FR Doc. 03-26734 Filed 10-20-03; 10:46 am]

BILLING CODE 6717-01-P